INTERNATIONAL TRADE COMMISSION

[Investigation No. 337-TA-1180]

Certain Wireless Communication Devices, and Related Components Thereof

Commission Determination Not to Review; an Initial Determination Terminating the Investigation as to Respondents HTC Corporation and HTC America, Inc.; Termination of Investigation

AGENCY: U.S. International Trade Commission.

ACTION: Notice.

SUMMARY: Notice is hereby given that the U.S. International Trade Commission (“Commission”) has determined not to review an initial determination (“ID”) (Order No. 48) of the presiding administrative law judge (“ALJ”), terminating the investigation as to respondents HTC Corporation and HTC America, Inc. This investigation is hereby terminated.

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On October 17, 2019, the Commission instituted this investigation based on a complaint filed by complainant Innovation Sciences LLC of Plano, Texas (“Innovation”). 84 FR 55583. The complaint (and supplement thereto) alleges violations of section 337 of the Tariff Act of 1930, as amended, 19 U.S.C. 1337, based upon the importation into the United States, the sale for importation, or the sale within the United States after importation of certain wireless communication devices, and related components thereof by reason of infringement of certain claims of U.S. Patent Nos. 10,136,179 and 10,104,425. Id. The Commission's notice of investigation named as respondents HTC Corporation of Taiwan, HTC America, Inc. of Seattle, Washington (collectively, “HTC”), and Resideo Technologies, Inc. of Austin, Texas (“Resideo”). Id. at 55584. The Office of Unfair Import Investigations (“OUII”) was also named as a party to this investigation. Id.

On October 21, 2020, this investigation was terminated as to Resideo. Order No. 45 (Oct. 6, 2020), unreviewed, Notice (Oct. 21, 2020).

On November 10, 2020, and pursuant to Commission Rule 210.21(b), Innovation and HTC filed a joint motion to terminate the investigation as to HTC based upon a settlement agreement. A corrected version of the motion was filed on November 16, 2020. On November 19, 2020, OUII filed a response supporting that motion.

On November 24, 2020, the ALJ issued Order No. 48, which granted the motion. The ID found that the joint motion complied with Commission Rules 210.21(a)(1) and 210.21(b)(1), and that terminating the investigation as to HTC was not contrary to the public interest. Because the HTC respondents were the only remaining respondents, the ID would result in the termination of the investigation in its entirety. No petitions for review of the ID were filed.

The Commission has determined not to review the subject ID.

The investigation is hereby terminated in its entirety.

The Commission vote for this determination took place on December 8, 2020.

The authority for the Commission's determination is contained in section 337 of the Tariff Act of 1930, as amended (19 U.S.C. 1337), and in Part 210 of the Commission's Rules of Practice and Procedure (19 CFR part 210).

By order of the Commission.
Issued: December 8, 2020.
Lisa Barton,
Secretary to the Commission.

[FR Doc. 2020-27378 Filed 12-11-20; 8:45 am]

BILLING CODE 7020-02-P